DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 29, 2011.

Address Comments To: Record Center, Pipeline and Hazardous Materials, Safety Administration U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on July 21, 2011.
Donald Burger,
Chief, General Approvals and Permits.

Application No. | Docket No. | Applicant | Regulation(s) affected | Nature of special permits thereof
NEW SPECIAL PERMITS
15220-N |  | GasCon (Pty) Ltd Cape Town | 49 CFR 178.274(b) and 178.277(b)(1) | To authorize the manufacture, marking, sale and use of UN portable tanks that are designed, constructed, certified and stamped in accordance with Section VIII Division 1, latest edition, of ASME Code. (modes 1, 2, 3)
15381-N |  | ATK Clearfield, UT | 49 CFR 178.71 | To authorize the transportation in commerce of certain UN cylinders which have been alternatively tested. (modes 1,4)
15382-N |  | Lockheed Martin Space Systems Company Sunnyvale, CA | 49 CFR 177.834(1)(1) | To authorize the transportation in commerce of certain Division 1.4 explosives in a motor vehicle equipped with a cargo heater that has not been rendered inoperable. (mode 1)
15384-N |  | TEA Technologies, Inc. Amarillo, TX | 49 CFR 180.509 | To authorize an alternative method of retest for DOT Specification 107A cylinders for use in transporting liquified or nonliquefied compressed gases, or mixtures. (modes 1, 2, 3)
15386-N |  | MAC, LLC Bay Saint Louis, MS | 49 CFR 173.56 | To authorize the one-time, one-way transportation in commerce of two (2) 5-gallon buckets containing wetted waste primers and three (3) 5-gallon buckets containing wetted waste propellant by a contract carrier for disposal without an EX approval. (mode 1)
15389-N |  | AMETEK Ameron LLC d/b/a MASS Systems Baldwin Park, CA | 9 CFR 49 CFR 173.301(a)(1), 173.301(a)(1), 173302a(a)(1), and 173.304a(a)(1) | To authorize the manufacture, marking, sale and use of on-DOT specification highpressure longitudinal welded and drawn cylinder for transportation of compressed oxygen, flammable or non-flammable gases. (modes 1, 2, 3, 4, 5)
15397-N |  | Northern Pioneer Helicopters, LLC Big Lake, AK | 49 CFR 172.101 Column (9B), 172.204(c)(3), 173.27(b)(2), 175.30(a)(1), 172.200, 172.300 and 172.400 | To authorize the transportation in commerce of certain hazardous materials by cargo aircraft including by external load in remote areas of Alaska without being subject to hazard communication requirements and quantity limitations where no other means of transportation is available. (mode 4)
15399-N |  | Cheyenne Light Fuel and Power Company | 49 CFR 173.301(a)(1) and 173.302a | To authorize the transportation in commerce of a Type 4 cylinder, resin impregnated, and fully wrapped continuous filament with a non-metallic liner containing methane. (mode 1)

[FR Doc. 2011-18837 Filed 7-27-11; 8:45 am]

BILLING CODE 4909-60-M